DEPARTMENT OF COMMERCE

Foreign-Trade Zones Board

[B-18-2015]

Foreign-Trade Zone (FTZ) 202—Los Angeles, California; Notification of Proposed Production Activity; syncreon Logistics (USA), LLC (Camera and Accessories Kitting); Torrance, California

syncreon Logistics (USA), LLC (syncreon) submitted a notification of proposed production activity to the FTZ Board for its facility in Torrance, California. The notification conforming to the requirements of the regulations of the FTZ Board (15 CFR 400.22) was received on March 27, 2015.

A separate application for a usage-driven site designation at the syncreon facility was submitted and will be processed under Section 400.38 of the FTZ Board's regulations. The facility is used for the kitting of cameras and accessories into retail packages on behalf of GoPro, Inc. Pursuant to 15 CFR 400.14(b), FTZ activity would be limited to the specific foreign-status materials and components and specific finished products described in the submitted notification (as described below) and subsequently authorized by the FTZ Board.

Production under FTZ procedures could exempt syncreon from customs duty payments on the foreign-status components used in export production. On its domestic sales, syncreon would be able to choose the duty rates during customs entry procedures that apply for protective lens covers, camera bundles, and lens replacement kits (duty rates range from 2.0 to 5.3%) for the foreign-status inputs noted below. Customs duties also could possibly be deferred or reduced on foreign-status production equipment.

The components and materials sourced from abroad include: Silicon dioxide for anti-fog inserts; 1 inch diameter, clear plastic adhesive; foam, cushions, double adhesive, 10mm; display boxes; plastic bags; plastic water housing assemblies; flat and curved adhesive mounts; rubber seals for water housing doors; quick release rubber plugs; rubber containers; textile bag packs; replacement camera cases; waterproof camera covers; accessory boxes; top trays for packaging; accessory boxes with shelves; warranty cards; printed carnets; stickers; textile chest mount harnesses; security tethers; washers; Wi-Fi remote attachments for key rings; thumbscrew wrench/bottle openers; metal mountings; adapters, micro SD to USB 2.0; battery transmitters; rechargeable batteries; Wi-Fi transmitters; Wi-Fi remotes; video players; micro SD cards 32GB; cameras; radar transmitters; LCD transmitters; cables, composite, 120 pin mini USB to CVBS audio/video; cables, micro HDMI to HDMI; microphone stand mounts; lens filters; 3D glasses; and, 24-inch metal camera bars (duty rates range from duty-free to 20%). The request indicates that foreign inputs included in certain textile categories (classified within HTSUS Subheadings 4202.92 and 6307.90) will be admitted to the zone in privileged foreign status (19 CFR 146.41), thereby precluding inverted tariff benefits on such items.

Public comment is invited from interested parties. Submissions shall be addressed to the FTZ Board's Executive Secretary at the address below. The closing period for their receipt is May 18, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane.Finver@trade.gov or (202) 482-1367.

Dated: April 2, 2015.
Andrew McGilvray,
Executive Secretary.

[FR Doc. 2015-08104 Filed 4-7-15; 8:45 am]

BILLING CODE 3510-DS-P